Title 3—

The President

Proclamation 8889 of October 15, 2012

Blind Americans Equality Day, 2012

By the President of the United States of America

A Proclamation

As business leaders and public advocates, teachers and scientists, musicians and athletes, and in countless other ways, blind and visually impaired Americans have profoundly enriched every part of our national life. Today, we celebrate their innumerable contributions, and we recommit to guaranteeing equal access, equal opportunity, and equal respect for all Americans.

My Administration is working to ensure people with disabilities have full access to the education, information, and job training they need. Over the past year, we have continued to implement the 21st Century Communications and Video Accessibility Act, which makes it easier for people who are deaf, blind, or visually impaired to take advantage of today's cutting-edge technologies—including home and mobile broadband. As part of that implementation, the Federal Communications Commission has established video description standards for television stations that help ensure programming is accessible for blind and visually impaired Americans. And in keeping with the promise of equal access to technology under Section 508 of the Rehabilitation Act, the Department of Justice reported last month on our progress toward making Federal resources fully accessible and offered new recommendations to further improve compliance throughout the Federal Government.

We are also striving to open new pathways for blind and visually impaired Americans to pursue careers in all fields, including science, technology, engineering, and mathematics (STEM). To provide more opportunities for students to achieve in math and science classes, the Department of Education is promoting effective learning materials for blind and visually impaired students. This year, the White House honored 14 individuals, including several who are blind, as Champions of Change for their work to expand educational and employment opportunities for people with disabilities in STEM fields. Their example affirms that when the playing field is level, people with disabilities are equally capable of excelling in these economically vital professions.

When the American people have the chance to succeed, we can achieve extraordinary things. Today, we renew our commitment to innovative projects and initiatives that will propel us further toward full access, inclusion, and opportunity for blind and visually impaired Americans.

By joint resolution approved on October 6, 1964 (Public Law 88-628, as amended), the Congress designated October 15 of each year as “White Cane Safety Day” to recognize the contributions of Americans who are blind or have low vision. Today, let us recommit to strengthening our Union and ensuring we remain a Nation where all our people, including those living with disabilities, have every opportunity to achieve their dreams.

NOW, THEREFORE, I, BARACK OBAMA, President of the United States of America, by virtue of the authority vested in me by the Constitution and the laws of the United States, do hereby proclaim October 15, 2012, as Blind Americans Equality Day. I call upon public officials, business and community leaders, educators, librarians, and Americans across the country to observe this day with appropriate ceremonies, activities, and programs.

IN WITNESS WHEREOF, I have hereunto set my hand this fifteenth day of October, in the year of our Lord two thousand twelve, and of the Independence of the United States of America the two hundred and thirty-seventh.

[FR Doc. 2012-25867

Filed 10-17-12; 11:15 am]

Billing code 3295-F3